FEDERAL COMMUNICATIONS COMMISSION

47 CFR Part 73

[DA 01-399; MM Docket No. 01-48; RM-10062]

Radio Broadcasting Services; Junction City, MO

AGENCY: Federal Communications Commission.

ACTION: Proposed rule.

SUMMARY: The Commission requests comments on a petition for rule making filed by Bishop Community Radio, Inc., seeking the allotment of Channel 295A to Junction City, MO, as its first local aural service. Petitioner is requested to provide a showing demonstrating that Junction City possesses the customary factors normally associated with community status. Channel 295A can be allotted to Junction City in compliance with the Commission's minimum distance separation requirements with a site restriction of 9.2 kilometers (5.7 miles) northeast, at coordinates 37-37-33 NL; 90-12-18 WL, to avoid a short-spacing to Station KAUL, Channel 294A, Ellington, MO.

DATES: Comments must be filed on or before April 9, 2001, and reply comments on or before April 24, 2001.

ADDRESSES: Secretary, Federal Communications Commission, Washington, DC. 20554. In addition to filing comments with the FCC, interested parties should serve the petitioner, as follows: Randall Eugene Spence, President/CEO, Bishop Community Radio, Inc., 5918 Fleming Drive, Evansville, IN 47711 (Petitioner).

FOR FURTHER INFORMATION CONTACT: Leslie K. Shapiro, Mass Media Bureau, (202) 418-2180.

SUPPLEMENTARY INFORMATION: This is a synopsis of the Commission's Notice of Proposed Rule Making, MM Docket No. 01-48; adopted February 7, 2001 and released February 16, 2001. The full text of this Commission decision is available for inspection and copying during normal business hours in the FCC Reference Information Center (Room CY-A257), 445 12th Street, SW, Washington, DC. The complete text of this decision may also be purchased from the Commission's copy contractor, International Transcription Service, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Missouri, is amended by adding Junction City, Channel 295A.

Federal Communications Commission.
John A. Karousos,
Chief, Allocations Branch, Policy and Rules Division, Mass Media Bureau.

[FR Doc. 01-4916 Filed 2-28-01; 8:45 am]

BILLING CODE 6712-01-P